DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. The Federal Advisory Committee Act (Public Law 92-463, 86 Stat. 770) requires that public notice of this meeting be announced in the Federal Register.

DATES: Monday, January 24, 2005, 1 p.m.-5:15 p.m., Tuesday, January 25,2005, 8:30 a.m.-4 p.m.

ADDRESSES: Hilton-Palmetto Dunes, 23 Ocean Lane, Hilton Head, SC 29928.

FOR FURTHER INFORMATION CONTACT: Gerri Flemming, Closure Project Office, Department of Energy Savannah River Operations Office, P.O. Box A, Aiken, SC 29802; Phone: (803) 952-7886.

SUPPLEMENTARY INFORMATION: Purpose of the Board: The purpose of the Board is to make recommendations to DOE in the areas of environmental restoration, waste management, and related activities.

Tentative Agenda

Monday, January 24, 2005

1 p.m.—2005 Workplan Session.

3 p.m.—Combined Committee Session.

5.15 p.m.—Adjourn.

Tuesday, January 25, 2005

8:30 a.m.—Recognition of Outgoing Board Members & Remarks.

9 a.m.—Approval of Minutes, Agency Updates.

9:45 a.m.—Public Comment Session.

10 a.m.—Chair and Facilitator Update.

10:15 a.m.—Waste Management Committee Report.

11:15 a.m.—Facilities Disposition & Site Remediation Committee Report.

11:50 a.m.—Public Comments.

12 p.m.—Lunch Break.

1 p.m.—Nuclear Materials Committee Report.

2 p.m.—Strategic & Legacy Management Committee Report.

3 p.m.—Administrative Committee Report, 2005 Candidate Review and Elections, 2005 Committee Chair Elections.

3:45 p.m.—Public Comments.

4 p.m.—Adjourn.

Public Participation: The meeting is open to the public. Written statements may be filed with the Board either before or after the meeting. Individuals who wish to make oral statements pertaining to agenda items should contact Gerri Flemming's office at the address or telephone listed above. Requests must be received five days prior to the meeting and reasonable provision will be made to include the presentation in the agenda. The Designated Federal Officer is empowered to conduct the meeting in a fashion that will facilitate the orderly conduct business. Each individual wishing to make public comment will be provided a maximum of five minutes to present their comments. This notice is being published less that 15 days before the date of the meeting due to programmatic issues.

Minutes: The minutes of this meeting will be available for public review and copying at the Department of Energy's Freedom of Information Public Reading Room, 1E-190, Forrestal Building, 1000 Independence Avenue, SW., Washington, DC 20585 between 9 a.m. and 4 p.m., Monday through Friday, except Federal holidays. Minutes will also be available by writing to Gerri Flemming, Department of Energy Savannah River Operations Office, P.O. Box A, Aiken, SC 29802, or by calling her at (803) 952-7886.

Issued at Washington, DC on January 4, 2004.
Carol Anne Matthews,
Acting Advisory Committee Management Officer.

[FR Doc. 05-334 Filed 1-4-05; 8:45 am]

BILLING CODE 6450-01-P